DEPARTMENT OF DEFENSE

Department of the Army

Board of Visitors, United States Military Academy (USMA)

AGENCY: Department of the Army, DoD.

ACTION: Notice of open committee meeting.

SUMMARY: The Department of the Army is publishing this notice to announce the following Federal advisory committee meeting of the USMA Board of Visitors (BoV). This meeting is open to the public. For more information about the BoV, its membership and its activities, please visit the BoV Web site at http://www.usma.edu/bov/SitePages/Home.aspx.

DATES: The USMA BoV will meet from 1:30 p.m. until 4:30 p.m. on Wednesday, December 3, 2014. Members of the public wishing to attend the meeting will need to show photo identification in order to gain access to the meeting location. All participants are subject to security screening.

ADDRESSES: The meeting will be held in Room 340, Veterans Affairs Room, Cannon House Office Building, New Jersey and Independence Avenues SE., Washington, DC, subject to availability—changes will be announced as soon as possible, on the BoV Web site at http://www.usma.edu/bov/SitePages/Home.aspx, should the meeting location change.

FOR FURTHER INFORMATION CONTACT: Mrs. Deadra K. Ghostlaw, the Designated Federal Officer for the committee, in writing at Secretary of the General Staff, ATTN: Deadra K. Ghostlaw, 646 Swift Road, West Point, NY 10996, by email at deadra.ghostlaw@usma.edu or BoV@usma.edu, or by telephone at (845) 938-4200.

SUPPLEMENTARY INFORMATION: The committee meeting is being held under the provisions of the Federal Advisory Committee Act of 1972 (5 U.S.C., Appendix, as amended), the Government in the Sunshine Act of 1976 (5 U.S.C. 552b, as amended), and 41 CFR 102-3.150.

Purpose of the Meeting: This is the 2014 Fall Meeting of the USMA BoV. The USMA BoV is an independent Federal advisory committee chartered to provide the Secretary of the Army independent advice and recommendations on the USMA Board of Visitors. Members of the Board will be provided updates on Academy issues.

Proposed Agenda: The Academy leadership will provide the Board with updates on the following matters: Sexual Harassment/Assault Response Program (SHARP), Accreditation and Period Review Report (PRR), Branching/Grad School Options (GRADSO), Brigade Tactical Department (BTD) Demographics, and the National Conference on Ethics in America (NCEA) update, Ms. Brenda Sue Fulton, Vice Chair of the Board of Visitors, will brief Board members on her attendance at the United States Air Force Academy Board of Visitors meeting in September 2014. Finally, the USMA Superintendent will brief the Board.

Public's Accessibility to the Meeting: Pursuant to 5 U.S.C. 552b and 41 CFR 102-3.140 through 102-3.165 and subject to the availability of space, this meeting is open to the public. Seating is on a first to arrive basis. Attendees are requested to submit their name, affiliation, and daytime phone number seven business days prior to the meeting to Mrs. Ghostlaw, via electronic mail, the preferred mode of submission, at the address listed in the FOR FURTHER INFORMATION CONTACT section. Members of the public attending the committee meeting will not be permitted to present questions from the floor or speak to any issue under consideration by the committee. Because the meeting of the committee will be held in a Federal Government facility, security screening is required. A government photo ID is required to enter the building. Please note that security guards have the right to inspect vehicles and persons seeking to enter and exit the meeting site. Cannon House Office Building, Room 340, Veterans Affairs Room, is fully handicap accessible. Wheelchair access is available at the entrance on New Jersey Avenue SE., south of the terrace at the intersection with Independence Avenue. For additional information about public access procedures, contact Mrs. Ghostlaw, the committee's Designated Federal Officer, at the email address or telephone number listed in the FOR FURTHER INFORMATION CONTACT section.

Written Comments or Statements: Pursuant to 41 CFR § 102-3.105(j) and 102-3.140 and section 10(a)(3) of the Federal Advisory Committee Act, the public or interested organizations may submit written comments or statements to the committee, in response to the stated agenda of the open meeting or in regard to the committee's mission in general. Written comments or statements should be submitted to Mrs. Ghostlaw, the committee Designated Federal Officer, via electronic mail, the preferred mode of submission, at the address listed in the FOR FURTHER INFORMATION CONTACT section. Each page of the comment or statement must include the author's name, title or affiliation, address, and daytime phone number. Written comments or statements being submitted in response to the agenda set forth in this notice must be received by the Designated Federal Official at least seven business days prior to the meeting to be considered by the committee. The Designated Federal Official will review all timely submitted written comments or statements with the committee Chairperson, and ensure the comments are provided to all members of the committee before the meeting. Written comments or statements received after this date may not be provided to the committee until its next meeting. Pursuant to 41 CFR 102-3.140d, the committee is not obligated to allow a member of the public to speak or otherwise address the committee during the meeting. Members of the public will be permitted to make verbal comments during the committee meeting only at the time and in the manner described below. If a member of the public is interested in making a verbal comment at the open meeting, that individual must submit a request, with a brief statement of the subject matter, to be addressed by the comment, at least three (3) business days in advance to the committee's Designated Federal Official, via electronic mail, the preferred mode of submission, at the address listed in the FOR FURTHER INFORMATION CONTACT section. The Designated Federal Official will log each request, in the order received, and in consultation with the committee Chairperson, determine whether the subject matter of each comment is relevant to the committee's mission and/or the topics to be addressed in this public meeting. A 15-minute period near the end of the meeting will be available for verbal public comments. Members of the public who have requested to make a verbal comment and whose comments have been deemed relevant under the process described above will be allotted no more than three (3) minutes during this period, and will be invited to speak in the order in which their requests were received by the Designated Federal Official.

Brenda S. Bowen,
Army Federal Register Liaison Officer.

[FR Doc. 2014-26642 Filed 11-7-14; 8:45 am]

BILLING CODE 3710-08-P